DEPARTMENT OF HEALTH AND HUMAN SERVICES

National Institutes of Health

Center for Scientific Review; Cancellation of Meeting

Notice is hereby given of the cancellation of the Center for Scientific Review Special Emphasis Panel, October 23, 2015, 8:30 a.m. to October 23, 2015, 5:00 p.m., Courtyard by Marriott, 5520 Wisconsin Avenue, Chevy Chase, MD, 20815 which was published in the Federal Register on September 17, 2015, 80 FR 55866.

The meeting has been cancelled due to the reassignment of applications.

Dated: September 22, 2015.
Carolyn Baum,
Program Analyst, Office of Federal Advisory Committee Policy.

[FR Doc. 2015-24484 Filed 9-25-15; 8:45 am]

BILLING CODE 4140-01-P